DEPARTMENT OF ENERGY

Federal Energy Regulatory Commission

[Docket No. CP04-334-000]

CenterPoint Energy— Mississippi River Transmission Corp.; Notice of Application

May 17, 2004.

Take notice that on May 10, 2004, CenterPoint Energy—Mississippi River Transmission Corporation (CenterPoint-MRT), 1111 Louisiana Street, Houston, Texas 77210, filed in Docket No. CP04-334-000 pursuant to section 7(b) of the Natural Gas Act, an application for permission and approval to abandon a significant portion of its main line no. 1 located in Louisiana, Arkansas, and Missouri and two compressor stations located in Arkansas. Specifically, CenterPoint-MRT proposes to abandon; approximately 307 miles of main line no. 1 from its compressor station at Perryville, Louisiana to CenterPoint-MRT's compressor station in Poplar Bluff, Missouri; a backup interconnect between main line no. 1 and facilities owned by Natural Gas Company of America located in Randolph County, Arkansas; the Diaz and Sherrill compressor stations located in Arkansas; in addition, CenterPoint-MRT seeks to abandon by sale to CenterPoint Energy Gas Transmission Company (CenterPoint) an 18.3 mile-mile segment of main line no. 1 that extends from CenterPoint-MRT's Glendale compressor station to the town of Pine Bluff, Arkansas, all as more fully described in the request which is on file with the Commission and open to public inspection. This filing may also be viewed on the Web at http://www.ferc.gov using the “eLibrary” link, select “Docket #” and follow the instructions. For assistance, please contact FERC Online Support at FERCOnlineSupport@ferc.gov or toll-free at (866) 208-3676, or TTY, contact (202) 502-8659.

CenterPoint-MRT states that main line no. 1 was originally installed in 1929, and that the age and mechanically coupled pipe of which the facilities are constructed are causing operational problems for CenterPoint-MRT. CenterPoint-MRT further states that service from its field zone to its market zone is currently served by main line nos. 2 and 3, in addition to main line no.1, and that main line nos. 2 and 3 would continue to provide CenterPoint-MRT's field zone to market zone service. The abandonment will not affect CenterPoint-MRT's ability to meet its firm service obligations.

Accordingly, CenterPoint-MRT requests permission and approval to abandon the facilities as more fully described in the application.

Any questions regarding this application should be directed to Lawrence O. Thomas, Director-Financial Analysis, CenterPoint Energy—Mississippi River Transmission Corporation, P.O. Box 21734, Shreveport, Louisiana 71101, or call (318) 429-2804.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken; but the filing of a comment alone will not serve to make the filer a party to the proceeding. The Commission's rules require that persons filing comments in opposition to the project provide copies of their protests only to the party or parties directly involved in the protest.

Protests, interventions, and comments may be filed electronically via the Internet in lieu of paper; see, 18 CFR 385.2001(a)(1)(iii) and the instructions on the Commission's Web site under the “e-Filing” link. The Commission strongly encourages electronic filings.

Comment Date: June 1, 2003.

Magalie R. Salas,
Secretary.

[FR Doc. E4-1203 Filed 5-21-04; 8:45 am]

BILLING CODE 6717-01-P